DEPARTMENT OF THE INTERIOR

National Park Service

Native American Graves Protection and Repatriation Review Committee: Meeting

AGENCY: National Park Service, Interior.

ACTION: Notice.

Notice is here given in accordance with the Federal Advisory Committee Act, 5 U.S.C. Appendix (1988), of a meeting of the Native American Graves Protection and Repatriation Review Committee.

General Information: The Review Committee was established by the Native American Graves Protection and Repatriation Act of 1990 (NAGPRA), 25 U.S.C. 3001 et seq. Review Committee members are appointed by the Secretary of the Interior. The Review Committee is responsible for monitoring the NAGPRA inventory and identification process; reviewing and making findings related to the identity or cultural affiliation of cultural items, or the return of such items; facilitating the resolution of disputes; compiling an inventory of culturally unidentifiable human remains and developing a process for disposition of such remains; consulting with Indian tribes and Native Hawaiian organizations and museums on matters within the scope of the work of the committee affecting such tribes or organizations; consulting with the Secretary of the Interior in the development of regulations to carry out NAGPRA; and making recommendations regarding future care of repatriated cultural items.

The Review Committee’s work is completed during meetings that are open to the public. The next scheduled meetings are in St. Paul, MN, May 9-11, 2003, and Albuquerque, NM, November 21-23, 2003. Final dates for the Albuquerque meeting will be confirmed during the St. Paul meeting.

Transcripts of Review Committee meetings are available approximately 8 weeks after each meeting at the National NAGPRA program office, 1201 Eye Street NW, Washington, DC. To request electronic copies of meeting transcripts, send an e-mail message to nagpra_info@nps.gov.

Information about NAGPRA, the Review Committee, and Review Committee meetings is available at the National NAGPRA Website, http://www.cr.nps.gov/nagpra; for the Review Committee’s meeting protocol, click “Review Committee,” then click “Procedures.”

Indian tribes and Native Hawaiian organizations that are considering visits to museums or Federal agencies in Review Committee meeting locations for the purpose of transfers of repatriated cultural items may wish to schedule transfers to coincide with Review Committee meetings. The National NAGPRA program awards repatriation grants to assist with the costs of repatriation transfers. Information about NAGPRA grants is posted on the National NAGPRA Website at http://www.cr.nps.gov/nagpra; click “NAGPRA Grants.”

St. Paul, MN, meeting, May 9-11, 2003: At the invitation of the Minnesota Indian Affairs Council, the Review Committee will meet on May 9, 10, and 11, 2003, in the Town Square A Room in the Radisson City Center Hotel St. Paul, 411 Minnesota Street, St. Paul, MN 55101, telephone (651) 291-8800, Web http://www.radisson.com/stpaulmn_citycenter.

Meeting sessions will begin at approximately 8:30 a.m. each day, and will end at approximately 5 p.m. on May 9 and 10, and approximately 12 noon on May 11. The agenda for the meeting in St. Paul will include National NAGPRA program reports on implementation; consideration of a dispute between the Royal Hawaiian Academy of Traditional Arts and the Bishop Museum; discussion of regulations, dispute resolution procedures, and the Review Committee’s 2002 report to the Congress; and presentations and statements by Indian tribes and Native Hawaiian organizations, museums, Federal agencies, and the public.

To schedule a presentation to the Review Committee during the St. Paul meeting, submit a written request with an abstract of the presentation and contact information. Persons also may submit written statements for consideration by the Review Committee during the St. Paul meeting. Send requests and statements to the Designated Federal Officer, NAGPRA Review Committee (1) by U.S. Mail to the National Park Service, 1849 C Street NW (2253), Washington, DC 20240; or (2) by commercial delivery to the National Park Service, 1201 Eye Street NW, 8th floor, Washington, DC 20005. Because increased security in the Washington, DC, area may delay delivery of U.S. Mail to Government offices, copies of mailed requests and statements should also be faxed to (202) 372-5197.

No special lodging arrangements have been made for this meeting. A variety of accommodations are available in St. Paul and nearby communities.

Albuquerque, NM, meeting, November 2003: The Review Committee is scheduled to meet in Albuquerque, NM, November 21-23, 2003. Final dates for the Albuquerque meeting will be confirmed during the St. Paul meeting. A subsequent Federal Register notice will be published that includes final meeting dates, location, agenda, and other details for the Albuquerque meeting.

Dated: March 3, 2003.
John Robbins,
Designated Federal Officer, NAGPRA Review Committee.

[FR Doc. 03-8506 Filed 4-7-03; 8:45 am]

BILLING CODE 4310-70-S